DEPARTMENT OF TRANSPORTATION

Federal Aviation Administration

Sixth Meeting: Special Committee 209, EUROCAE WG-49 Joint Plenary Session ATCRBS/Mode S Transponder

AGENCY: Federal Aviation Administration (FAA), DOT.

ACTION: Notice of RTCA Special Committee 209, EUROCAE WG-49 Joint Plenary Session ATCRBS/Mode S Transponder.

SUMMARY: The FAA is issuing this notice to advise the public of a meeting of RTCA Special Committee 209, EUROCAE WG-49 Joint Plenary Session ATCRBS/Mode S Transponder.

DATES: The meeting will be held January 29-February 2, 2007 from 9 a.m.-2 p.m.

ADDRESSES: Crowne Plaza Melbourne Oceanside, Melbourne, FL 32093.

FOR FURTHER INFORMATION CONTACT: Host Contact: Hal Moses; telephone (202) 833-9339, e-mail hmoses@rtca.org, (2) Secretary Contact: Gary Furr; telephone (609) 485-4254, e-mail gary.ctr.furr@faa.gov.

SUPPLEMENTARY INFORMATION: Pursuant to section 10(a)(2) of the Federal Advisory Committee Act (Pub. L. 92-463, 5 U.S.C., Appendix 2), notice is hereby given for a Special Committee 209 meeting. The agenda will include: January 29-February 2:

• Host/Co-Chairs Welcome, Introductions and Remarks.

• Review and Approval of the Agenda (WP06-01).

• Review and Approval of the Minutes from SC-209 Meting #5 (WP06-02)—(RTCA Paper No. 003-07/SC209-010).

• Discussion of the draft of DO-181D.

• Discussion of the draft of ED-73C.

• Discussion on ELS and EHS Requirements and test procedures.

• Status of the ED-73B/DO-181C Requirements Comparison database.

• Review of Status of SC-209 Action Items.

• Closing Plenary Session (Other Business, Discussion of Agenda for Next Meeting, Date, Place and Time of Future Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, January 17, 2007.
Francisco Estrada C.,
RTCA Advisory Committee.

[FR Doc. 07-296 Filed 1-23-07; 8:45 am]

BILLING CODE 4910-13-M